DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NHSC).

Dates and Times: May 20, 2010, 2 p.m.-5:15 p.m.; May 21, 2010, 8:30 a.m.-4 p.m.; and May 22, 2010, 8:15 a.m.-12:30 p.m.

Place: Bethesda North Marriott Hotel & Conference Center, 5701 Marinelli Road, Bethesda, MD 20852, Phone: 301-822-9201.

Status: The meeting will be open to the public.

Agenda: The Council will be convening in Bethesda, Maryland, to hear updates from the Agency and the Bureau of Clinician Recruitment and Service (BCRS), discuss recruitment and marketing strategies for the NHSC, and address current workforce issues.

For Further Information Contact: Njeri Jones, Bureau of Clinician Recruitment and Service, Health Resources and Services Administration, Parklawn Building, Room 8A-46, 5600 Fishers Lane, Rockville, MD 20857; e-mail: NJones@hrsa.gov; telephone: 301-443-2541.

Dated: April 15, 2010.
Sahira Rafiullah,
Director, Division of Policy and Information Coordination.

[FR Doc. 2010-9222 Filed 4-21-10; 8:45 am]

BILLING CODE 4165-15-P